DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301)-443-1129.

The following request has been submitted to the Office of Management and Budget for review under the Paperwork Reduction Act of 1995: Proposed Project: U.S. Component of the 2001/2002 World Health Organization Study of Health Behavior in School Children (WHO-HBSC): New

The Office of Data and Information Management (ODIM), Maternal and Child Health Bureau (MCHB), Health Resources and Services Administration (HRSA), will participate on behalf of the United States in the 2001/2002 WHO Study of Health Behavior in School Children. The information proposed for collection will be used by MCHB, HRSA, and the National Institutes of Health (NIH) to increase understanding of adolescent health to improve the quality of health programs and services. This cross-national research study will collect survey data to study adolescent health status and behaviors in relation to their social and supportive environment. Types of data will include measures of physical activity, body size, nutrition, social inequality, diversity, injury, violence, and perceptions of peers, school, and family as a supportive environment.

The estimated response burden is as follows:

Survey | Number of respondents | Responses per respondent | Hours per response | Total burden hour
Students | 17,172 | 1 | .75 | 12,879
Administrator | 755 | 1 | .25 | 189
School Staff | 744 | 1 | .5 | 372
Survey | 18,671 |  |  | 13,440

Written comments and recommendations concerning the proposed information collection should be sent within 30 days of this notice to: John Morrall, Human Resources and Housing Branch, Office of Management and Budget, New Executive Office Building, Room 10235, Washington, DC 20503.

Dated: July 18, 2001.
Jane M. Harrison,
Director, Division of Policy Review and Coordination.

[FR Doc. 01-18481 Filed 7-24-01; 8:45 am]

BILLING CODE 4165-01-P